FEDERAL COMMUNICATIONS COMMISSION

47 CFR Part 73

[DA 04-2129; MB Docket No. 04-258; RM-11000]

Radio Broadcasting Services; Levan and Richfield, UT

AGENCY: Federal Communications Commission.

ACTION: Proposed rule.

SUMMARY: This document requests comments on a petition for rulemaking filed by Micro Communications, Inc., licensee of Station KCFM (FM), Levan, Utah, proposing the substitution of Channel 229C for Channel 244C at Levan and the substitution of Channel 244C for Channel 229C at Richfield, Utah, and the modification of the license for Stations KCFM (FM) and KCYQ (FM) to reflect the changes. Mid-Utah Radio, Inc., licensee of KCYQ (FM), Richfield, Utah, is ordered to show cause why its license should not be modified to reflect Channel 244C in lieu of Channel 229C. The coordinates for Channel 229C at Levan are 39-33-31 NL and 111-51-40 WL. The coordinates for Channel 244C at Richfield are 39-19-17NL and 111-46-11 WL.

DATES: Comments must be filed on or before September 13, 2004, and reply comments on or before September 28, 2004.

ADDRESSES: Secretary, Federal Communications Commission, 445 Twelfth Street, SW., Washington, DC 20554. In addition to filing comments with the FCC, interested parties should serve the Petitioner as follows: Peter Gutmann, Esq., Womble, Carlyle, Sandridge, & Rice, PLLC, 1401 I Street, NW., Seventh Floor, Washington, DC 20005.

FOR FURTHER INFORMATION CONTACT: Victoria McCauley, Media Bureau, (202) 418-2180.

SUPPLEMENTARY INFORMATION: This is a synopsis of the Commission's Notice of Proposed Rule Making, MB Docket No. 04-258, adopted July 14, 2004, and released July 20, 2004. The full text of this Commission decision is available for inspection and copying during normal business hours in the FCC's Reference Information Center at Portals II, CY-A257, 445 Twelfth Street, SW., Washington, DC. This document may also be purchased from the Commission's duplicating contractors, Best Copy and Printing, Inc., 445 12th Street, SW., Room CY-B402, Washington, DC 20554, telephone 1-800-378-3160 or http://www.BCPIWEB.com.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Utah, is amended by removing Channel 244C and adding Channel 229C at Levan and by removing Channel 229C and adding Channel 244C at Richfield.

Federal Communications Commission.
John A. Karousos,
Assistant Chief, Audio Division, Media Bureau.

[FR Doc. 04-17240 Filed 7-28-04; 8:45 am]

BILLING CODE 6712-01-P